DEPARTMENT OF TRANSPORTATION

Federal Aviation Administration

Notice of Public Meeting

AGENCY: Federal Aviation Administration (FAA), DOT.

ACTION: Notice of public meeting.

SUMMARY: The FAA is hosting a virtual Inclusive Language Summit to present and discuss recommendations the Agency has received that promote the institution of inclusive language throughout the FAA. The Summit will provide a platform for the public to comment and provide additional recommendations to the FAA as it develops an enterprise-wide initiative to adopt language that is both gender-neutral and inclusive. In the spirit of bringing all voices to the conversation, the FAA seeks participation from all members of the public; stakeholders in public agencies; academia; not-for profit institutions; individuals working in the area of diversity, equity, inclusion, and accessibility (DEIA); and the aerospace community. Input from a diverse audience will assist the FAA in developing policies, procedures and plans for implementation of terminology that is inclusive in nature in all aspects of FAA governance and oversight as well as in the international context under FAA's global leadership.

DATES: The virtual meeting will be held on November 10, 2021, from 10:00 a.m. to 12:30 p.m. Eastern Time.

Requests for accommodations to a disability must be received by November 1, 2021. Written comments or recommendations will be received until November 30, 2021.

ADDRESSES: This will be a virtual meeting and livestreamed on FAA's social media platforms for members of the public to observe. To observe, follow FAA social media platforms on the day of the event at https://www.facebook.com/FAA, https://www.youtube.com/FAAnews, or https://twitter.com/FAANews.

FOR FURTHER INFORMATION CONTACT: Thomas Cuddy, Federal Aviation Administration, 800 Independence Ave. SW, Washington, DC 20591; telephone (202) 267-5869; email: DEIA@faa.gov.

SUPPLEMENTARY INFORMATION:

I. Background

The FAA's mission is to provide the safest, most efficient aerospace system in the world. We strive to reach the next level of safety and efficiency and to demonstrate global leadership in how we safely integrate new users and technologies into our aerospace system. Because language matters, embracing diversity and inclusion will have a significant impact on bringing all voices into the conversation to help further the FAA's mission. To lead the aerospace industry into the next century, the FAA must actively promote values of DEIA. The words and language that we use in all communication channels, both for internal and external use, as well as rules, regulations and associated policies and guidance, must match this objective. If any individual employee, contractor or industry partner feels excluded or marginalized because of language or words, the work of the agency suffers and opportunities for achievement are diminished.

The FAA has initiated efforts to expand inclusive language across the Agency. In 2019, the FAA first tasked the Federal Women's Program to begin to develop recommendations for gender neutral language. Furthermore, in February 2021, the FAA tasked the Drone Advisory Committee (DAC) to develop recommendations for gender-neutral language as an alternative to gender specific terms currently used in the drone and aviation communities. The FAA also tasked DAC to take the lead to facilitate the adoption of gender-neutral language throughout the drone community and provide recommendations that organizations across the industry and community can implement. The DAC presented its recommendations to the FAA in June 2021 and they are posted on the FAA's DAC web page.¹ Please refer to page 110 of the June 2021 DAC meeting ebook for a recommended list of changes.

¹ See pages 97-136 of the Drone Advisory Committee Public e-Book at https://www.faa.gov/uas/programs_partnerships/drone_advisory_committee/media/DAC_Public_eBook_06_23_2021.pdf.

The FAA acknowledges that many of the terms that the DAC proposed to incorporate are not new words, nor are they new to aviation. The DAC's recommendations, in addition to other similar concurrent initiatives, have sparked a wider conversation across the Agency about formally embracing more inclusive language, including terminology that is gender-neutral. Replacing gender-based terms with new inclusive terminology is expected to create a more inclusive and accepting environment within the FAA and the aerospace industry as a whole. However, the FAA recognizes the importance of gathering public input on the proposed DAC terminology, as well as alternative terminology, that FAA should consider adopting in furtherance of its goal to ensure equality, which can only be accomplished through the elimination of bias and discrimination on the basis of sex, including the person's sexual orientation, gender identity, or pregnancy. The FAA notes that implementation of policies and plans related to the adoption of inclusive terminology may necessitate changes in legislation, as well as rules and regulations. However, the FAA is committed to ensuring FAA is both a workplace and a regulatory agency free of bias and discrimination in all practices.

II. Public Participation

The Inclusive Language Summit is open to the public. Members of the public will have an opportunity to provide feedback or additional recommendations to the Agency's proposal to adopt language that is more inclusive.

Members of the public are also welcome to submit written recommendations. Please send written documents to the email address in the FOR FURTHER INFORMATION CONTACT section.

In the spirit of bringing all voices to the conversation, the FAA seeks participation from all members of the public; stakeholders in public agencies; academia; not-for profit institutions; individuals working in the area of DEIA; and the aviation community. Input from a diverse audience will assist the FAA in developing policies and procedures that are inclusive in nature and strengthen the FAA's goal of becoming an employer of choice and the Agency's mission to be a global aerospace leader.

The U.S. Department of Transportation is committed to providing equal access to this meeting for all participants. If you need alternative formats or services because of a disability, such as sign language, interpretation, or other ancillary aids, please contact the person listed in the FOR FURTHER INFORMATION CONTACT section.

Members of the public may submit comments and questions for the FAA's consideration to the email address listed in the FOR FURTHER INFORMATION CONTACT section. On the day of the event participants will be given the opportunity to ask questions in near real time through a link provided on the FAA's social media pages located in ADDRESSES section.

Issued in Washington, DC.
Timothy R. Adams,
Acting Executive Director, Office of Rulemaking.

[FR Doc. 2021-23280 Filed 10-25-21; 8:45 am]

BILLING CODE 4910-13-P